DEPARTMENT OF EDUCATION

Applications for New Awards; Supporting Effective Educator Development Program

AGENCY: Office of Innovation and Improvement, Department of Education.

ACTION: Notice.

SUMMARY: The Department of Education is issuing a notice inviting applications for new awards for fiscal year (FY) 2017 for the Supporting Effective Educator Development (SEED) Program, Catalog of Federal Domestic Assistance (CFDA) number 84.423A.

DATES:

Applications Available: April 20, 2017.

Deadline for Notice of Intent To Apply: May 5, 2017.

Date of Informational Webinar: The SEED program intends to hold a webinar designed to provide technical assistance to interested applicants. Detailed information regarding this webinar will be provided on the SEED Web site at http://innovation.ed.gov/what-we-do/teacher-quality/supporting-effective-educator-development-grant-program/.

Deadline for Transmittal of Applications: June 19, 2017.

Deadline for Intergovernmental Review: August 18, 2017.

FOR FURTHER INFORMATION CONTACT: Richard Wilson, U.S. Department of Education, 400 Maryland Avenue SW., Room 4W111, Washington, DC 20202-5960. Telephone: (202) 453-6709 or by email: SEED@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: The SEED Program, established under section 2242 of the Elementary and Secondary Education Act of 1965 (ESEA), as amended by the Every Student Succeeds Act (ESSA) (20 U.S.C. 6672),¹ provides funding to increase the number of highly effective educators by supporting the implementation of Evidence-Based ² practices that prepare, develop, or enhance educators. These grants will allow eligible entities to develop, expand, and evaluate practices that can serve as models that can be sustained and disseminated.

¹ Unless otherwise indicated, all references to the ESEA are to the ESEA, as amended by the ESSA.

² Throughout this notice, all defined terms are denoted with capitals.

Priorities: This competition includes two absolute priorities, two competitive preference priorities, and one invitational priority. We are establishing these priorities, and the definitions and requirements in this notice, for the FY 2017 grant competition and any subsequent year in which we make awards from the list of unfunded applications from this competition, in accordance with section 437(d)(1) of the General Education Provisions Act (GEPA), 20 U.S.C. 1232(d)(1). Under the SEED grant competition, each of the two absolute priorities constitutes its own funding category. The Secretary intends to award grants under each absolute priority for which applications of sufficient quality are submitted.

Absolute Priorities: These priorities are absolute priorities. Under 34 CFR 75.105(c)(3), we consider only applications that meet one of these priorities. Applicants may address only one absolute priority and must clearly indicate the specific absolute priority their project addresses.

These priorities are:

Absolute Priority 1: Supporting Effective Teachers.

Under this priority, we provide funding to projects that are designed to improve teacher effectiveness and increase the number of Highly Effective Teachers in schools with high concentrations of High-Need Students.

Projects must use strategies supported by at least Moderate Evidence to address one or more of the following priority areas:

(a) Recruiting and preparing prospective teachers;

(b) Providing professional development activities to current teachers that will improve pedagogy or content knowledge; or

(c) Providing professional enhancement activities to teachers, which may include activities that lead to an advanced credential.

Projects must align their activities to meet the needs of their partner States, districts, or schools, such as addressing teacher shortages, improving equitable access to Highly Effective Teachers, or increasing the number of teachers from underrepresented groups.

Absolute Priority 2: Supporting Effective Principals or Other School Leaders.

Under this priority, we provide funding to projects that are designed to improve principal or other School Leader effectiveness and increase the number of Highly Effective Principals or Other School Leaders in schools with high concentrations of High-Need Students.

Projects must use strategies supported by at least Promising Evidence that address one or more of the following priority areas:

(a) Recruiting and preparing prospective leaders;

(b) Providing Professional Development activities to current leaders that will improve instructional leadership, school culture and climate leadership, or administrative leadership; or

(c) Providing professional enhancement activities to leaders, which may include activities that lead to an advanced credential or certification.

Projects must align their activities to meet the needs of their partner States, districts, or schools, such as improving equitable access to Highly Effective Principals or Other School Leaders or increasing the number of leaders from underrepresented groups.

Competitive Preference Priorities: For FY 2017 and any subsequent year in which we make awards from the list of unfunded applications from this competition, these priorities are competitive preference priorities. Under 34 CFR 75.105(c)(2)(i), we will award up to five points to an application that meets Competitive Preference Priority 1 and up to three points to an application that meets Competitive Preference Priority 2, depending on how well the application meets these competitive preference priorities. Applicants may choose to address zero, one, or both of the competitive preference priorities. The maximum total competitive preference priority points an application may receive under this competition is eight.

These priorities are:

Competitive Preference Priority 1: Promoting Diversity in the Educator Workforce (0 to 5 points).

Under this priority, we provide funding to projects that are designed to address both of the following priority areas:

(a) Providing educator development activities designed to improve cultural competency and responsiveness skills that contribute to an inclusive school culture; and

(b) Improving the recruitment, support, and retention of educators from diverse backgrounds.

Applicants must respond to both of the priority areas in order to receive the maximum available points under this competitive preference priority.

Competitive Preference Priority 2: Support for Personalized Learning Environments (0 to 3 points).

Under this priority, we provide funding to projects that are designed to support teachers, principals, or other School Leaders implementing personalized learning environments in their classrooms or in classrooms in their schools, using data to inform their instruction, and increasing students' engagement, voice, and choice in their learning. Projects may support educators' implementation of college and career ready strategies such as project based learning, competency based education, or blended learning.

Invitational Priority: For FY 2017 and any subsequent year in which we make awards from the list of unfunded applications from this competition, this priority is an invitational priority. Under 34 CFR 75.105(c)(1), we do not give an application that meets this invitational priority a competitive or absolute preference over other applications.

This priority is:

Invitational Priority: Support for the Use of Micro-Credentials.

Under this priority, we are interested in projects that support teachers, principals, or other school leaders earning Micro-Credentials based on demonstrated mastery of competencies and performance-based outcomes.

Definitions: The definitions of Evidence-Based, Local Educational Agency, Professional Development, Regular High School Diploma, School Leader, and State Educational Agency are from section 8101 of the ESEA (20 U.S.C. 7801). The definition of Institution of Higher Education is from section 101 of the Higher Education Opportunity Act (20 U.S.C. 1001). We are establishing the remaining definitions for the FY 2017 grant competition only, in accordance with section 437(d)(1) of GEPA, 20 U.S.C. 1232(d)(1).

Correlational Study With Statistical Controls For Selection Bias means a study that (1) estimates how a Relevant Outcome varies with the receipt of a project component, and (2) uses sampling or analysis methods (e.g., multiple regression) to account for at least some of the differences between the groups being compared.

Evidence-Based means a State, Local Educational Agency, or school activity, strategy, or intervention is supported by strong evidence, Moderate Evidence, or Promising Evidence.

Experimental Study means a study, such as a Randomized Controlled Trial (RCT), that is designed to compare outcomes between two groups of individuals that are otherwise equivalent except for their assignment to either a treatment group receiving a practice or a control group that does not. In some circumstances, a finding from a Regression Discontinuity Design Study (RDD) or findings from a collection of Single-Case Design Studies (SCDs) may be considered equivalent to a finding from an RCT. RCTs and RDDs, and collections of SCDs, depending on design and implementation, can Meet What Works Clearinghouse Evidence Standards Without Reservations.

High-Need Students means students who are at risk for educational failure or otherwise in need of special assistance and support, such as students who are living in poverty, who are far below grade level, who have left school before receiving a Regular High School Diploma, who are at risk of not graduating with a diploma on time, who are homeless, who are in foster care, who have been incarcerated, who have disabilities, or who are English learners.

Highly Effective Principal or Other School Leader means a principal or other School Leader who receives the highest possible effectiveness rating.

Highly Effective Teacher means a teacher who receives the highest possible effectiveness rating.

Institution of Higher Education means an educational institution in any State that—

(a) Admits as regular students only persons having a certificate of graduation from a school providing secondary education, or the recognized equivalent of such a certificate, or persons who meet the requirements of section 1091(d) of the HEA;

(b) Is legally authorized within such State to provide a program of education beyond secondary education;

(c) Provides an educational program for which the institution awards a bachelor's degree or provides not less than a 2-year program that is acceptable for full credit toward such a degree, or awards a degree that is acceptable for admission to a graduate or professional degree program, subject to review and approval by the Secretary;

(d) Is a public or other nonprofit institution; and

(e) Is accredited by a nationally recognized accrediting agency or association, or if not so accredited, is an institution that has been granted preaccreditation status by such an agency or association that has been recognized by the Secretary for the granting of preaccreditation status, and the Secretary has determined that there is satisfactory assurance that the institution will meet the accreditation standards of such an agency or association within a reasonable time.

Large Sample means an analytic sample of 350 or more students (or other single analysis units), or 50 or more groups (such as classrooms or schools) that each contain, on average, 10 or more students (or other single analysis units, regardless of whether these single analysis units are disaggregated in the analysis of outcomes for the groups). Multiple studies can cumulatively be used to meet the Multi-Site Sample and Large Sample requirements of Moderate Evidence or strong evidence, as long as each study meets the other requirements of the particular level of evidence (i.e., Moderate Evidence or strong evidence).

Local Educational Agency means:

(a) A public board of education or other public authority legally constituted within a State for either administrative control or direction of, or to perform a service function for, public elementary schools or secondary schools in a city, county, township, school district, or other political subdivision of a State, or of or for a combination of school districts or counties that is recognized in a State as an administrative agency for its public elementary schools or secondary schools.

(b) Administrative Control and Direction. The term includes any other public institution or agency having administrative control and direction of a public elementary school or secondary school.

(c) Bureau of Indian Education Schools. The term includes an elementary school or secondary school funded by the Bureau of Indian Education but only to the extent that including the school makes the school eligible for programs for which specific eligibility is not provided to the school in another provision of law and the school does not have a student population that is smaller than the student population of the LEA receiving assistance under the ESSA with the smallest student population, except that the school shall not be subject to the jurisdiction of any State Educational Agency other than the Bureau of Indian Education.

(d) Educational Service Agencies. The term includes educational service agencies and consortia of those agencies.

(e) State Educational Agency. The term includes the State Educational Agency in a State in which the State Educational Agency is the sole educational agency for all public schools.

Logic Model (also known as a theory of action) means a reasonable conceptual framework that identifies key components of the proposed project (i.e., the active “ingredients” that are hypothesized to be critical to achieving the Relevant Outcomes) and describes the theoretical and operational relationships among the key components and outcomes.

Meets What Works Clearinghouse Evidence Standards Without Reservations is the highest possible rating for a study finding reviewed by the WWC. Studies receiving this rating provide the highest degree of confidence that an estimated effect was caused by the practice studied. Experimental Studies may receive this highest rating. These standards are described in the WWC Procedures and Standards Handbooks, Version 3.0, which can be accessed at http://ies.ed.gov/ncee/wwc/Handbooks.

Meets What Works Clearinghouse Evidence Standards With Reservations is the second-highest rating for a study finding reviewed by the What Works Clearinghouse (WWC). Studies receiving this rating provide a reasonable degree of confidence that an estimated effect was caused by the practice studied. Both Experimental Studies (such as Randomized Controlled Trials with high rates of sample attrition) and Quasi-Experimental Design Studies may receive this rating if they establish the equivalence of the treatment and comparison groups in key baseline characteristics. These standards are described in the WWC Procedures and Standards Handbooks, Version 3.0, which can be accessed at http://ies.ed.gov/ncee/wwc/Handbooks.

Micro-Credential means a credential awarded to an educator who has demonstrated mastery of a specific skill or competency through the use of evidence or performance-based outcomes. The credential must be portable across schools, LEAs, or States.

Moderate Evidence means the following conditions are met: (a) There is at least one experimental or Quasi-Experimental Design Study of the effectiveness of the practice with a Relevant Finding that Meets What Works Clearinghouse Evidence Standards With or Without Reservations (e.g., a Quasi-Experimental Design study or high-attrition Randomized Controlled Trial that establishes the equivalence of the treatment and comparison groups in Student Achievement at baseline); (b) the Relevant Finding in the study described in paragraph (a) is of a statistically significant and positive (i.e., favorable) effect on a student outcome or other Relevant Outcome, with no statistically significant and overriding negative (i.e., unfavorable) evidence on that practice from other findings on the intervention reviewed by and reported on the What Works Clearinghouse that Meet What Works Clearinghouse Evidence Standards With or Without Reservations; (c) the Relevant Finding in the study described in paragraph (a) is based on a sample that overlaps with the populations (e.g., the types of student served) or settings proposed to receive the practice (e.g., an after-school program studied in urban high schools and proposed for rural high schools); and (d) the Relevant Finding in the study described in paragraph (a) is based on a Large Sample and a Multi-Site Sample.

Multi-site Sample means more than one site, where site can be defined as an LEA, locality, or State. A sample could be multi-site if it includes campuses in two or more localities (e.g., cities or counties), even if the campuses all belong to the same LEA or the same postsecondary school system. Multiple studies can cumulatively meet the Multi-Site Sample and Large Sample requirements of Moderate Evidence and strong evidence, as long as each study meets the other requirements of the particular level of evidence.

National Nonprofit Organization means an entity that meets the definition of “nonprofit” under 34 CFR 77.1(c) and is of national scope, meaning that the entity provides services in multiple States to a significant number or percentage of recipients and is supported by staff or affiliates in multiple States.

Professional Development means activities that—

(a) Are an integral part of school and local educational agency strategies for providing educators (including teachers, principals, other school leaders, specialized instructional support personnel, paraprofessionals, and, as applicable, early childhood educators) with the knowledge and skills necessary to enable students to succeed in a well-rounded education and to meet the challenging State academic standards; and

(b) Are sustained (not stand-alone, 1-day, or short term workshops), intensive, collaborative, job-embedded, data-driven, and classroom-focused, and may include activities that—

(i) Improve and increase teachers': (1) Knowledge of the academic subjects the teachers teach; (2) understanding of how students learn; and (3) ability to analyze student work and achievement from multiple sources, including how to adjust instructional strategies, assessments, and materials based on such analysis;

(ii) Are an integral part of broad schoolwide and districtwide educational improvement plans;

(iii) Allow personalized plans for each educator to address the educator's specific needs identified in observation or other feedback;

(iv) Improve classroom management skills;

(v) Support the recruitment, hiring, and training of effective teachers, including teachers who became certified through State and local alternative routes to certification;

(vi) Advance teacher understanding of: (1) Effective instructional strategies that are evidence-based; and (2) strategies for improving student academic achievement or substantially increasing the knowledge and teaching skills of teachers;

(vii) Are aligned with, and directly related to, academic goals of the school or local educational agency;

(viii) Are developed with extensive participation of teachers, principals, other school leaders, parents, representatives of Indian Tribes (as applicable), and administrators of schools to be served under the ESEA;

(ix) Are designed to give teachers of English learners, and other teachers and instructional staff, the knowledge and skills to provide instruction and appropriate language and academic support services to those children, including the appropriate use of curricula and assessments;

(x) To the extent appropriate, provide training for teachers, principals, and other school leaders in the use of technology (including education about the harms of copyright piracy), so that technology and technology applications are effectively used in the classroom to improve teaching and learning in the curricula and academic subjects in which the teachers teach;

(xi) As a whole, are regularly evaluated for their impact on increased teacher effectiveness and improved student academic achievement, with the findings of the evaluations used to improve the quality of professional development;

(xii) Are designed to give teachers of children with disabilities or children with developmental delays, and other teachers and instructional staff, the knowledge and skills to provide instruction and academic support services, to those children, including positive behavioral interventions and supports, multi-tier system of supports, and use of accommodations;

(xiii) Include instruction in the use of data and assessments to inform and instruct classroom practice;

(xiv) Include instruction in ways that teachers, principals, other school leaders, specialized instructional support personnel, and school administrators may work more effectively with parents and families;

(xv) Involve the forming of partnerships with institutions of higher education, including, as applicable, Tribal Colleges and Universities as defined in section 316(b) of the Higher Education Act of 1965 (20 U.S.C. 1059c(b)), to establish school-based teacher, principal, and other school leader training programs that provide prospective teachers, novice teachers, principals, and other school leaders with an opportunity to work under the guidance of experienced teachers, principals, other school leaders, and faculty of such institutions;

(xvi) Create programs to enable paraprofessionals (assisting teachers employed by a local educational agency receiving assistance under part A of title I) to obtain the education necessary for those paraprofessionals to become certified and licensed teachers;

(xvii) Provide follow-up training to teachers who have participated in activities described in paragraph (b) of this definition that are designed to ensure that the knowledge and skills learned by the teachers are implemented in the classroom; and

(xviii) Where practicable, provide jointly for school staff and other early childhood education program providers, to address the transition to elementary school, including issues related to school readiness.

Project Component means an activity, strategy, or intervention included in a project. Evidence may pertain to an individual Project Component, or to a combination of Project Components (e.g., training teachers on instructional practices for English learners and follow-on coaching for these teachers).

Promising Evidence means the following conditions are met: (a) There is at least one study that is a Correlational Study with Statistical Controls For Selection Bias with a Relevant Finding; and (b) the Relevant Finding in the study described in paragraph (a) of this definition is of a statistically significant and positive (i.e., favorable) effect of the Project Component on a student outcome or other Relevant Outcome with no statistically significant and overriding negative (i.e., unfavorable) evidence on that Project Component from other findings on the intervention reviewed by and reported in the What Works Clearinghouse that Meets What Works Clearinghouse Evidence Standards With or Without Reservations.

Quasi-Experimental Design Study (QED) means a study using a design that attempts to approximate an experimental design by identifying a comparison group that is similar to the treatment group in important respects. This type of study, depending on design and implementation, can Meet What Works Clearinghouse Evidence Standards With Reservations (but not Without Reservations).

Randomized Controlled Trial (RCT) means a study that employs random assignment of, for example, students, teachers, classrooms, or schools to receive the practice being evaluated (the treatment group) or not to receive the practice (the control group). The estimated effectiveness of the practice is the difference between the average outcomes for the treatment group and for the control group. These studies, depending on design and implementation, can Meet What Works Clearinghouse Evidence Standards Without Reservations.

Regression Discontinuity Design Study (RDD) means a study that assigns the practice being evaluated using a measured variable (e.g., assigning students reading below a cutoff score to tutoring or developmental education classes) and controls for that variable in the analysis of outcomes. The effectiveness of the practice is estimated for individuals who barely qualify to receive that component. These studies, depending on design and implementation, can Meet What Works Clearinghouse Evidence Standards Without Reservations.

Regular High School Diploma (a) means the standard high school diploma awarded to the preponderance of students in the State that is fully aligned with State standards, or a higher diploma, except that a regular high school diploma shall not be aligned to the alternate academic achievement standards described in section 1111(b)(1)(E) of the ESEA; and (b) does not include a recognized equivalent of a diploma, such as a general equivalency diploma, certificate of completion, certificate of attendance, or similar lesser credential.

Relevant Finding means a finding from a study regarding the relationship between (a) an activity, strategy, or intervention included as a component of the Logic Model for the proposed project, and (b) a student outcome or other Relevant Outcome included in the Logic Model for the proposed project.

Relevant Outcome means the student outcome(s) (or the ultimate outcome if not related to students) the proposed Project Component is designed to improve, consistent with the specific goals of a program.

School Leader means a principal, assistant principal, or other individual who is (a) an employee or officer of an elementary school or secondary school, LEA, or other entity operating an elementary school or secondary school; and (b) responsible for the daily instructional leadership and managerial operations in the elementary school or secondary school building.

Single-Case Design Study (SCD) means a study that uses observations of a single case (e.g., a student eligible for a behavioral intervention) over time in the absence and presence of a controlled treatment manipulation to determine whether the outcome is systematically related to the treatment. According to the What Works Clearinghouse Single Case Design Pilot Standards, a collection of these studies, depending on design and implementation (e.g., including a sufficient number of cases and of data points per condition), can Meet What Works Clearinghouse Evidence Standards Without Reservations.

State Educational Agency means the agency primarily responsible for the State supervision of public elementary schools and secondary schools.

Student Achievement means—

For grades and subjects in which assessments are required under section 1111(b)(2) of the ESEA: (1) A student's score on such assessments; and, as appropriate, (2) other measures of student learning, such as those described in the subsequent paragraph, provided that they are rigorous and comparable across schools within a LEA.

For grades and subjects in which assessments are not required under section 1111(b)(2) of the ESEA: (1) Alternative measures of student learning and performance, such as student results on pre-tests, end-of-course tests, and objective performance-based assessments; (2) student progress on learning objectives; (3) student performance on English language proficiency assessments; and (4) other measures of Student Achievement that are rigorous and comparable across schools within an LEA.

Student Growth means the change in Student Achievement for an individual student between two or more points in time. An applicant may also include other measures that are rigorous and comparable across classrooms.

Waiver of Proposed Rulemaking: Under the Administrative Procedure Act (5 U.S.C. 553), the Department generally offers interested parties the opportunity to comment on proposed priorities, definitions, and requirements. Section 437(d)(1) of GEPA, however, allows the Secretary to exempt from rulemaking requirements regulations governing the first grant competition under a new or substantially revised program authority. This is the first grant competition under section 2242 of the ESEA, and therefore qualifies for this exemption. In order to ensure timely grant awards, the Secretary has decided to forego public comment on the priorities, requirements, and definitions under section 437(d)(1) of GEPA. These priorities, requirements, and definitions will apply to the FY 2017 grant competition and any subsequent year in which we make awards from the list of unfunded applications from this competition.

Program Authority: Section 2242 of the ESEA (20 U.S.C. 6672).

Applicable Regulations: (a) The Education Department General Administrative Regulations (EDGAR) in 34 CFR parts 75, 77, 79, 81, 82, 84, 86, 97, 98, and 99. (b) The OMB Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

Note: The regulations in 34 CFR part 86 apply to institutions of higher education only.

II. Award Information

Type of Award: Discretionary grants.

Estimated Available Funds: The Further Continuing and Security Assistance Appropriations Act, 2017, would provide, on an annualized basis, $93,814,518 for the SEED program, of which we plan to use $42,000,000 for this competition. The actual level of funding, if any, depends on final congressional action. However, we are inviting applications to allow enough time to complete the grant process if Congress appropriates funds for this program.

Contingent upon the availability of funds and the quality of applications, we may make additional awards in subsequent years from the list of unfunded applications from this competition.

Estimated Range of Awards: $1,000,000-$6,000,000 for the first year of the project.

Estimated Average Size of Awards: $4,000,000 for the first year of the project.

Estimated Number of Awards: 5-8.

Note: The Department is not bound by any estimates in this notice.

Project Period: Up to 36 months, with renewal of up two additional years if the grantee demonstrates to the Secretary that the grantee is effectively using funds. Such renewal may include allowing the grantee to scale up or replicate the successful program.

III. Eligibility Information

1. Eligible Applicants:

(a) An Institution of Higher Education that provides course materials or resources that are evidence-based in increasing academic achievement, graduation rates, or rates of postsecondary education matriculation;

(b) A National Nonprofit Organization with a demonstrated record of raising student academic achievement, graduation rates, and rates of higher education attendance, matriculation, or completion, or of effectiveness in providing preparation and professional development activities and programs for teachers, principals, or other school leaders;

(c) The Bureau of Indian Education; or

(d) A partnership consisting of—

(i) One or more entities described in paragraph (a) or (b); and

(ii) A for-profit entity.

2. a. Cost Sharing or Matching: Under section 2242 of the ESEA, each grant recipient must provide, from non-Federal sources, at least 25 percent of the funds for the total cost for each year of activities supported by the grant. These funds may be provided in cash or through in-kind contributions. Grantees must include a budget showing their matching contributions on an annual basis relative to the annual budget amount of SEED grant funds and must provide evidence of their matching contributions for the first year of the grant in their grant applications. Section 2242 of the ESEA also authorizes the Secretary to waive this matching requirement on a case-by-case basis in cases of demonstrated financial hardship. Applicants that wish to apply for a waiver must include a request in their application that demonstrates a financial hardship. Further information about applying for waivers can be found in the application package. However, given the importance of matching funds to the long-term success of the project, the Secretary expects eligible entities to identify appropriate matching funds.

b. Supplement-Not-Supplant: This program involves supplement-not-supplant funding requirements. Under section 2301 of the ESSA (20 U.S.C. 6691), funds made available under this title shall be used to supplement, and not supplant, non-Federal funds that would otherwise be used for activities authorized under this title. Further, the prohibition against supplanting funds also means that grantees seeking to charge indirect costs to SEED funds will need to use their negotiated restricted indirect cost rates. See 34 CFR 75.563.

3. Eligible Subgrantees: (a) Under 34 CFR 75.708(b) and (c) a grantee may award subgrants—to directly carry out project activities described in its application—to the following types of entities: LEAs, public entities, and private entities suitable to carry out the activities proposed in the application.

(b) The grantee may award subgrants to entities it has identified in an approved application or under procedures established by the grantee.

4. Other: The Secretary establishes the following requirements for the SEED program. We are establishing the requirements for the evidence standards and the application requirements for evidence and study citations, outcomes, and interventions in this notice, for the FY 2017 grant competition and any subsequent year in which we make awards from the list of unfunded applications from this competition, in accordance with section 437(d)(1) of the GEPA (20 U.S.C. 1232(d)(1)). We are establishing the requirements for certification and award restrictions in accordance with Section 2242 of the ESEA (20 U.S.C. 6672).

Evidence Standards:

1. To be eligible for an award under Absolute Priority 1, applicants must demonstrate how their project is supported by at least Moderate Evidence.

2. To be eligible for an award under Absolute Priority 2, applicants must demonstrate how their project is supported by at least Promising Evidence.

Application Requirements:

Study citations, outcomes, and interventions: An applicant must identify up to two study citations to be reviewed against WWC Evidence Standards for the purposes of meeting the SEED evidence standard requirement. An applicant must clearly identify these citations in the Evidence Form. The Department will not review a study citation that an applicant fails to clearly identify for review. In addition to the two study citations, applicants should include: (1) The positive student outcomes they intend to replicate under their grant; (2) the intervention the applicant plans to implement; and (3) the intended student outcomes that the intervention(s) attempts to impact in the Evidence Form.

Evidence: An applicant must ensure that all evidence is available to the Department from publicly available sources and provide links or other guidance indicating where it is available. If the Department determines that an applicant has provided insufficient information, the applicant will not have an opportunity to provide additional information at a later time. However, if the Department determines that a study does not provide enough information on key aspects of the study design, such as sample attrition or equivalence of intervention and comparison groups, the Department will submit a query to the study author(s) to gather information for use in determining a study rating. Authors are asked to respond to queries within 10 business days. Should the author query remain incomplete within 14 days of the initial contact to the study author(s), the Department's review of the study will proceed without this information.

Certification: Applicants must include a certification that the services provided by an eligible entity under the grant to a LEA or to a school served by the LEA will not result in direct fees for participating students or parents.

Award Restrictions: The Secretary shall not award more than one grant under this program to an eligible entity during a grant competition.

IV. Application and Submission Information

1. Address to Request Application Package: You can obtain an application package via the internet or from the Education Publications Center (ED Pubs). To obtain a copy via the internet, use the following address: https://innovation.ed.gov/what-we-do/teacher-quality/supporting-effective-educator-development-grant-program. To obtain a copy from ED Pubs, write, fax, or call: ED Pubs, U.S. Department of Education, P.O. Box 22207, Alexandria, VA 22304. Telephone, toll free: 1-877-433-7827. FAX: (703) 605-6794. If you use a TDD or a TTY, call, toll free: 1-877-576-7734.

You can contact ED Pubs at its Web site, also: www.EDPubs.gov or at its email address: edpubs@inet.ed.gov.

If you request an application package from ED Pubs, be sure to identify this program or competition as follows: CFDA number 84.423A.

Individuals with disabilities can obtain a copy of the application package in an accessible format (e.g., braille, large print, audiotape, or compact disc) by contacting the person or team listed under Accessible Format in section VII of this notice.

2. a. Content and Form of Application Submission: Requirements concerning the content and form of an application, together with the forms you must submit, are in the application package for this competition.

Notice of Intent To Apply: The Department will be able to develop a more efficient process for reviewing grant applications if it has a better understanding of the number of entities that intend to apply for funding under this competition. Therefore, the Department strongly encourages each potential applicant to notify the Department by sending a short email message indicating the applicant's intent to submit an application for funding. The email need not include information regarding the content of the proposed application, only the applicant's intent to submit it. The Department requests that this email notification be sent to the SEED program inbox at: SEED@ed.gov.

Eligible entities that do not provide a notification of their intent to apply may still apply for funding.

Page Limit: The application narrative (Part III of the application) is where you, the applicant, address the selection criteria that reviewers use to evaluate your application. We recommend that you limit the application narrative to the equivalent of no more than 40 pages, using the following standards:

• A “page″ is 8.5″ x 11″, on one side only, with 1″ margins at the top, bottom, and both sides.

• Double space (no more than three lines per vertical inch) all text in the application narrative, except for titles, headings, footnotes, quotations, references, captions, charts, tables, figures, and graphs.

• Use a font that is either 12 point or larger or no smaller than 10 pitch (characters per inch).

• Use one of the following fonts: Times New Roman, Courier, Courier New, or Arial.

The page limit does not apply to Part I, the cover sheet; Part II, the budget section, including the narrative budget justification; Part IV, the assurances and certifications; or the one-page abstract, the resumes, or letters of support. However, the page limit does apply to all of the application narrative section.

b. Submission of Proprietary Information: Given the types of projects that may be proposed in applications for the SEED program, your application may include business information that you consider proprietary. In 34 CFR 5.11 we define “business information” and describe the process we use in determining whether any of that information is proprietary and, thus, protected from disclosure under Exemption 4 of the Freedom of Information Act (5 U.S.C. 552, as amended).

Because we plan to make successful applications available to the public, you may wish to request confidentiality of business information.

Consistent with Executive Order 12600, please designate in your application any information that you believe is exempt from disclosure under Exemption 4. In the appropriate Appendix section of your application, under “Other Attachments Form,” please list the page number or numbers on which we can find this information. For additional information please see 34 CFR 5.11(c).

3. Submission Dates and Times:

Applications Available: April 20, 2017.

Deadline for Notice of Intent To Apply: May 5, 2017. Date of Informational Webinar: The SEED program intends to hold a webinar designed to provide technical assistance to interested applicants. Detailed information regarding this webinar will be provided on the SEED Web site at http://innovation.ed.gov/what-we-do/teacher-quality/supporting-effective-educator-development-grant-program/.

Deadline for Transmittal of Applications: June 19, 2017.

Applications for grants under this competition must be submitted electronically using the Grants.gov Apply site (Grants.gov). For information (including dates and times) about how to submit your application electronically, or in paper format by mail or hand delivery if you qualify for an exception to the electronic submission requirement, please refer to Other Submission Requirements in section IV of this notice.

We do not consider an application that does not comply with the deadline requirements.

Individuals with disabilities who need an accommodation or auxiliary aid in connection with the application process should contact the person listed under FOR FURTHER INFORMATION CONTACT. If the Department provides an accommodation or auxiliary aid to an individual with a disability in connection with the application process, the individual's application remains subject to all other requirements and limitations in this notice. Deadline for Intergovernmental Review: August 18, 2017.

4. Intergovernmental Review: This competition is subject to Executive Order 12372 and the regulations in 34 CFR part 79. Information about Intergovernmental Review of Federal Programs under Executive Order 12372 is in the application package for this competition.

5. Funding Restrictions: We reference regulations outlining funding restrictions in the Applicable Regulations section of this notice.

6. Data Universal Numbering System Number, Taxpayer Identification Number, and System for Award Management: To do business with the Department of Education, you must—

a. Have a Data Universal Numbering System (DUNS) number and a Taxpayer Identification Number (TIN);

b. Register both your DUNS number and TIN with the System for Award Management (SAM), the Government's primary registrant database;

c. Provide your DUNS number and TIN on your application; and

d. Maintain an active SAM registration with current information while your application is under review by the Department and, if you are awarded a grant, during the project period.

You can obtain a DUNS number from Dun and Bradstreet at the following Web site: http://fedgov.dnb.com/webform. A DUNS number can be created within one to two business days.

If you are a corporate entity, agency, institution, or organization, you can obtain a TIN from the Internal Revenue Service. If you are an individual, you can obtain a TIN from the Internal Revenue Service or the Social Security Administration. If you need a new TIN, please allow two to five weeks for your TIN to become active.

The SAM registration process can take approximately seven business days, but may take upwards of several weeks, depending on the completeness and accuracy of the data you enter into the SAM database. Thus, if you think you might want to apply for Federal financial assistance under a program administered by the Department, please allow sufficient time to obtain and register your DUNS number and TIN. We strongly recommend that you register early.

Note: Once your SAM registration is active, it may be 24 to 48 hours before you can access the information in, and submit an application through, Grants.gov.

If you are currently registered with SAM, you may not need to make any changes. However, please make certain that the TIN associated with your DUNS number is correct. Also note that you will need to update your registration annually. This may take three or more business days.

Information about SAM is available at www.SAM.gov. To further assist you with obtaining and registering your DUNS number and TIN in SAM or updating your existing SAM account, we have prepared a SAM.gov Tip Sheet, which you can find at: http://www2.ed.gov/fund/grant/apply/sam-faqs.html.

In addition, if you are submitting your application via Grants.gov, you must (1) be designated by your organization as an Authorized Organization Representative (AOR); and (2) register yourself with Grants.gov as an AOR. Details on these steps are outlined at the following Grants.gov Web page: www.grants.gov/web/grants/register.html.

7. Other Submission Requirements: Applications for grants under this competition must be submitted electronically unless you qualify for an exception to this requirement in accordance with the instructions in this section.

a. Electronic Submission of Applications.

Applications for grants under the SEED competition, CFDA number 84.423A, must be submitted electronically using the Governmentwide Grants.gov Apply site at www.Grants.gov. Through this site, you will be able to download a copy of the application package, complete it offline, and then upload and submit your application. You may not email an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the SEED competition at www.Grants.gov. You must search for the downloadable application package for this competition by the CFDA number. Do not include the CFDA number's alpha suffix in your search (e.g., search for 84.423, not 84.423A).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page at www.G5.gov. In addition, for specific guidance and procedures for submitting an application through Grants.gov, please refer to the Grants.gov Web site at: www.grants.gov/web/grants/applicants/apply-for-grants.html.

• You will not receive additional point value because you submit your application in electronic format, nor will we penalize you if you qualify for an exception to the electronic submission requirement, as described elsewhere in this section, and submit your application in paper format.

• You must submit all documents electronically, including all information you typically provide on the following forms: The Application for Federal Assistance (SF 424), the Department of Education Supplemental Information for SF 424, Budget Information—Non-Construction Programs (ED 524), and all necessary assurances and certifications.

• You must upload any narrative sections and all other attachments to your application as files in a read-only, flattened Portable Document Format (PDF), meaning any fillable PDF documents must be saved as flattened non-fillable files. Therefore, do not upload an interactive or fillable PDF file. If you upload a file type other than a read-only, flattened PDF (e.g., Word, Excel, WordPerfect, etc.) or submit a password-protected file, we will not review that material. Please note that this could result in your application not being considered for funding because the material in question—for example, the application narrative—is critical to a meaningful review of your proposal. For that reason it is important to allow yourself adequate time to upload all material as PDF files. The Department will not convert material from other formats to PDF. There is no need to password protect a file in order to meet the requirement to submit a read-only flattened PDF. And, as noted above, the Department will not review password protected files.

• Your electronic application must comply with any page-limit requirements described in this notice.

• After you electronically submit your application, you will receive from Grants.gov an automatic notification of receipt that contains a Grants.gov tracking number. This notification indicates receipt by Grants.gov only, not receipt by the Department. Grants.gov will also notify you automatically by email if your application met all the Grants.gov validation requirements or if there were any errors (such as submission of your application by someone other than a registered Authorized Organization Representative, or inclusion of an attachment with a file name that contains special characters). You will be given an opportunity to correct any errors and resubmit, but you must still meet the deadline for submission of applications.

Once your application is successfully validated by Grants.gov, the Department will retrieve your application from Grants.gov and send you an email with a unique PR/Award number for your application.

These emails do not mean that your application is without any disqualifying errors. While your application may have been successfully validated by Grants.gov, it must also meet the Department's application requirements as specified in this notice and in the application instructions. Disqualifying errors could include, for instance, failure to upload attachments in a read-only, non-modifiable PDF; failure to submit a required part of the application; or failure to meet applicant eligibility requirements. It is your responsibility to ensure that your submitted application has met all of the Department's requirements.

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT and provide an explanation of the technical problem you experienced with Grants.gov, along with the Grants.gov Support Desk Case Number. We will accept your application if we can confirm that a technical problem occurred with the Grants.gov system and that the problem affected your ability to submit your application by 4:30:00 p.m., Washington, DC time, on the application deadline date. We will contact you after we determine whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because—

• You do not have access to the Internet; or

• You do not have the capacity to upload large documents to the Grants.gov system;

and

• No later than two weeks before the application deadline date (14 calendar days or, if the fourteenth calendar day before the application deadline date falls on a Federal holiday, the next business day following the Federal holiday), you mail or fax a written statement to the Department, explaining which of the two grounds for an exception prevents you from using the Internet to submit your application.

If you mail your written statement to the Department, it must be postmarked no later than two weeks before the application deadline date. If you fax your written statement to the Department, we must receive the faxed statement no later than two weeks before the application deadline date.

Address and mail or fax your statement to: Richard Wilson, U.S. Department of Education, 400 Maryland Avenue SW., Room 4W111, Washington, DC 20202-5960. FAX: (202) 205-5630.

Your paper application must be submitted in accordance with the mail or hand-delivery instructions described in this notice.

b. Submission of Paper Applications by Mail.

If you qualify for an exception to the electronic submission requirement, you may mail (through the U.S. Postal Service or a commercial carrier) your application to the Department. You must mail the original and two copies of your application, on or before the application deadline date, to the Department at the following address:

U.S. Department of Education, Application Control Center, Attention: (CFDA Number 84.423A), LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

Note: The U.S. Postal Service does not uniformly provide a dated postmark. Before relying on this method, you should check with your local post office.

We will not consider applications postmarked after the application deadline date.

c. Submission of Paper Applications by Hand Delivery.

If you qualify for an exception to the electronic submission requirement, you (or a courier service) may deliver your paper application to the Department by hand. You must deliver the original and two copies of your application by hand, on or before the application deadline date, to the Department at the following address:

U.S. Department of Education, Application Control Center, Attention: (CFDA Number 84.423A), 550 12th Street SW., Room 7039, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this competition are from 34 CFR 75.210 and are as follows:

A. Quality of the Project Design (40 points). The Secretary considers the quality of the design of the proposed project. In determining the quality of the design of the proposed project, the Secretary considers the following factors:

(1) The extent to which the proposed project represents an exceptional approach to the priority or priorities established for the competition.

(2) The extent to which the training or professional development services to be provided by the proposed project are of sufficient quality, intensity, and duration to lead to improvements in practice among the recipients of those services.

(3) The extent to which the services to be provided by the proposed project involve the collaboration of appropriate partners for maximizing the effectiveness of project services.

(4) The extent to which the services to be provided by the proposed project are focused on those with greatest needs.

(5) The extent to which the design of the proposed project is appropriate to, and will successfully address, the needs of the target population or other identified needs.

B. Significance (15 points). The Secretary considers the significance of the proposed project. In determining the significance of the proposed project, the Secretary considers the following factors:

(1) The importance or magnitude of the results or outcomes likely to be attained by the proposed project, especially improvements in teaching and Student Achievement.

(2) The extent to which the costs are reasonable in relation to the number of persons to be served and to the anticipated results and benefits.

(3) The potential for the incorporation of project purposes, activities, or benefits into the ongoing program of the agency or organization at the end of the grant.

(4) The extent to which the results of the proposed project are to be disseminated in ways that will enable others to use the information or strategies.

C. Quality of the Management Plan (25 points). The Secretary considers the quality of the management plan for the proposed project. In determining the quality of the management plan for the proposed project, the Secretary considers the following factors:

(1) The extent to which the goals, objectives, and outcomes to be achieved by the proposed project are clearly specified and measurable.

(2) The adequacy of the management plan to achieve the objectives of the proposed project on time and within budget, including clearly defined responsibilities, timelines, and milestones for accomplishing project tasks.

(3) The adequacy of procedures for ensuring feedback and continuous improvement in the operation of the proposed project.

(4) The extent to which the results of the proposed project are to be disseminated in ways that will enable others to use the information or strategies.

D. Quality of the Project Evaluation (20 points). The Secretary considers the evaluation to be conducted of the proposed project. In determining the quality of the evaluation, the Secretary considers the following factors:

(1) The extent to which the methods of evaluation will provide performance feedback and permit periodic assessment of progress toward achieving intended outcomes.

(2) The extent to which the methods of evaluation will provide valid and reliable performance data on Relevant Outcomes.

(3) The extent to which the methods of evaluation will, if well-implemented, produce evidence about the project's effectiveness that would meet the What Works Clearinghouse Evidence Standards with reservations.

Note: Applicants may wish to review the following technical assistance resources on evaluation: (1) WWC Procedures and Standards Handbook 3.0: https://ies.ed.gov/ncee/wwc/Handbooks; and (2) “Technical Assistance Materials for Conducting Rigorous Impact Evaluations” to the list of evaluation resources: http://ies.ed.gov/ncee/projects/evaluationTA.asp; and (3) IES/NCEE Technical Methods papers: http://ies.ed.gov/ncee/tech_methods/. In addition, applicants may view two optional webinar recordings that were hosted by the Institute of Education Sciences. The first webinar discussed strategies for designing and executing well-designed Quasi-Experimental Design Studies and is available at: http://ies.ed.gov/ncee/wwc/Multimedia.aspx?sid=23. The second webinar focused on more rigorous evaluation designs, discussing strategies for designing and executing studies that meet WWC evidence standards without reservations. This webinar is available at: http://ies.ed.gov/ncee/wwc/Multimedia.aspx?sid=18.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department of Education (34 CFR 100.4, 104.5, 106.4, 108.8, and 110.23).

Additional factors we consider in selecting an application for an award are as follows:

(a) As required under section 2242 of the ESEA, the Secretary shall ensure that, to the extent practicable, grants are distributed among eligible entities that will serve geographically diverse areas, including urban, suburban, and rural areas.

(b) As required under section 2242 of the ESEA, the Department shall not award more than one grant under this program to an eligible entity during a grant competition. If an entity submits multiple applications for this competition, only the highest rated application will be considered for an award.

3. Risk Assessment and Special Conditions: Consistent with 2 CFR 200.205, before awarding grants under this competition the Department conducts a review of the risks posed by applicants. Under 2 CFR 3474.10, the Secretary may impose special conditions and, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $150,000), under 2 CFR 200.205(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through SAM. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250(b), the Secretary may provide a grantee with additional funding for data collection analysis and reporting. In this case the Secretary establishes a data collection period.

4. Performance Measures: The overall purpose of the SEED program is to increase the number of highly effective educators by supporting Evidence-Based projects that prepare or provide professional development or enhancement activities for teachers, principals, or other School Leaders. We have established the following performance measures for the SEED program: (a) The percentage of teacher and principal participants who serve concentrations of High-Need Students; (b) the percentage of teacher and principal participants who serve concentrations of High-Need Students and are highly effective; (c) the percentage of teacher and principal participants who serve concentrations of High-Need Students, are highly effective, and serve for at least two years; (d) the cost per such participant; and (e) the number of grantees with evaluations that meet the WWC standards with reservations. Grantees will report annually on each measure.

5. Continuation Awards: In making a continuation award under 34 CFR 75.253, the Secretary considers, among other things: Whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: Individuals with disabilities can obtain this document and a copy of the application package in an accessible format (e.g., braille, large print, audiotape, or compact disc) on request to the program contact person listed under For Further Information Contact in section VII of this notice.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Dated: April 17, 2017.
Margo Anderson,
Acting Assistant Deputy Secretary for Innovation and Improvement.

[FR Doc. 2017-08042 Filed 4-19-17; 8:45 am]

BILLING CODE 4000-01-P